FEDERAL COMMUNICATIONS COMMISSION

47 CFR Part 73

[DA 08-2331; MB Docket No. 07-280; RM-11379]

Radio Broadcasting Services; Linden, TN

AGENCY: Federal Communications Commission.

ACTION: Final rule.

SUMMARY: The Audio Division grants a Petition for Rule Making issued at the request of George S. Flinn, Jr., proposing the allotment of Channel 267A at Linden, Tennessee, as its first local service. Channel 267A at Linden can be allotted, consistent with the minimum distance separation requirements of the Commission's Rules, at reference coordinates 35-39-45 NL and 87-44-25 WL with the imposition of a site restriction of 10.1 kilometers (6.3 miles) northeast of Linden. Due to the fact that Channel 267A at Linden already exists in the FM Table of Allotments, this final rule does not contain any amendatory language. See Supplementary Information, supra.

DATES: Effective December 8, 2008.

ADDRESSES: Secretary, Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 07-280, adopted October 22, 2008, and released October 24, 2008. The Notice of Proposed Rule Making proposed the allotment of Channel 267A at Linden, Tennessee. See 73 FR 2211, published January 14, 2008. The full text of this Commission decision is available for inspection and copying during normal business hours in the Commission's Reference Information Center, 445 Twelfth Street, SW., Washington, DC 20554. The complete text of this decision may also be purchased from the Commission's duplicating contractor, Best Copy and Printing, Inc., 445 12th Street, SW., Room CY-B402, Washington, DC 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). The Commission will send a copy of this Report and Order in a report to be sent to Congress and the Government Accountability Office pursuant to the Congressional Review Act, see 5 U.S.C. 801(a)(1)(A).

The allotment of Channel 267A at Linden was allotted herein to prevent removal of Linden's sole local service due to the grant of a contingent hybrid community of license application, File No. BNPH-20070502AFM. The FM Table already lists vacant but applied for Channel 267A at Linden. See 67 FR 59213, published September 20, 2002. In this regard, George S. Flinn, Jr. was the winning bidder of this vacant Linden allotment in Auction 70 for authority to construct a new FM station. Thereafter, the applicant filed a hybrid community of license application to substitute Channel 264C3 for vacant but applied for Channel 267A at Linden, reallot Channel 264C3 from Linden to Waynesboro, Tennessee, as its first local service, and modify the new FM station license to specify Channel 264C3 at Waynesboro. See BNPH-20070502AFM. The application was granted simultaneously with the release of the Report and Order in this proceeding. As a result, the Media Bureau's Consolidated Database System will reflect the assignment of Channel 264C3 at Waynesboro, Tennessee in lieu of Channel 267A at Linden, Tennessee for this new FM station.

List of Subjects in 47 CFR Part 73

Radio, Radio broadcasting.

Federal Communications Commission.
John A. Karousos,
Assistant Chief, Audio Division, Media Bureau.

[FR Doc. E8-26742 Filed 11-7-08; 8:45 am]

BILLING CODE 6712-01-P